DEPARTMENT OF HOMELAND SECURITY

Federal Emergency Management Agency

44 CFR Part 67

[Docket ID FEMA-2010-0003; Internal Agency Docket No. FEMA-B-1147]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before January 3, 2011.

ADDRESSES: The corresponding preliminary Flood Insurance Rate Map (FIRM) for the proposed BFEs for each community is available for inspection at the community's map repository. The respective addresses are listed in the table below.

You may submit comments, identified by Docket No. FEMA-B-1147, to Roy E. Wright, Deputy Director, Risk Analysis Division, Federal Insurance and Mitigation Administration, Federal Emergency Management Agency, 500 C Street, SW., Washington, DC 20472, (202) 646-3461, or (e-mail) roy.e.wright@dhs.gov.

FOR FURTHER INFORMATION CONTACT: Roy E. Wright, Deputy Director, Risk Analysis Division, Federal Insurance and Mitigation Administration, Federal Emergency Management Agency, 500 C Street, SW., Washington, DC 20472, (202) 646-3461, or (e-mail) roy.e.wright@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
City of Indianola, Nebraska
Nebraska | City of Indianola | Coon Creek | Approximately 260 feet downstream of Burlington Northern Railroad | +2379 | +2378
|  |  | Approximately 1.13 mile upstream of D Street | +2399 | +2397
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Indianola
Maps are available for inspection at 210 North 4th Street, Indianola, NE 69034.

Flooding source(s) | Location of referenced elevation | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Marshall County, Iowa, and Incorporated Areas
Iowa River | Approximately 0.47 mile downstream of Main Street Road | None | +861 | Unincorporated Areas of Marshall County.
| Approximately 1.25 mile upstream of Prairie Avenue | None | +881
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Marshall County
Maps are available for inspection at the Marshall County Courthouse, 1 East Main Street, Marshalltown, IA 50158.
Concordia Parish, Louisiana, and Incorporated Areas
Bayou Cocodrie | Approximately 751 feet upstream of Louisiana Highway 15 | None | +53 | Town of Ferriday, Unincorporated Areas of Concordia Parish.
| Just downstream of Fisherman Drive | None | +56
Canal No. 1 | Approximately 3,394 feet upstream of Deacon Wailes Road | None | +55 | Town of Ridgecrest, Unincorporated Areas of Concordia Parish.
| Just downstream of U.S. Route 84 | None | +57
Vidalia Canal | Approximately 2,560 feet upstream of Missouri Pacific Railroad | None | +57 | Town of Vidalia, Unincorporated Areas of Concordia Parish.
| Just upstream of Laurel Street | None | +63
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Town of Ferriday
Maps are available for inspection at 1116 2nd Street, Ferriday, LA 71334.
Town of Ridgecrest
Maps are available for inspection at 116 Foster Drive, Ridgecrest, LA 71334.
Town of Vidalia
Maps are available for inspection at 101 North Spruce Street, Vidalia, LA 71373.
Unincorporated Areas of Concordia Parish
Maps are available for inspection at 4001 Carter Street, Room 1, Vidalia, LA 71373.
Iosco County, Michigan (All Jurisdictions)
Cedar Lake | Entire shoreline in Iosco County | None | +609 | Township of Oscoda.
Lake Huron | Entire shoreline in the Township of Alabaster | +583 | +584 | Township of Alabaster.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Township of Alabaster
Maps are available for inspection at 1716 South U.S. Route 23, Tawas City, MI 48763.
Township of Oscoda
Maps are available for inspection at 110 South State Street, Oscoda, MI 48750.
Washington County, Nebraska, and Incorporated Areas
Cameron Ditch | At the confluence with the Missouri River | +1007 | +1009 | City of Blair.
| Just downstream of Washington Street | +1008 | +1009
Cauble Creek | Just upstream of U.S. Route 75 (Herman Boulevard) | +1055 | +1064 | City of Blair.
| Approximately 1,500 feet west of Nebraska Highway 31 | None | +1243
Cauble Creek East Tributary | At the confluence with Cauble Creek | +1033 | +1036 | City of Blair.
| Approximately 100 feet downstream of Pinewood Drive | +1037 | +1036
Missouri River | At the Douglas County boundary | +994 | +995 | City of Blair, City of Fort Calhoun, Unincorporated Areas of Washington County, Village of Herman.
| At the Burt County boundary | +1017 | +1018
Unnamed Creek | Approximately 400 feet downstream of South 10th Street | +1059 | +1066 | City of Blair.
| Approximately 1,500 feet upstream of Pi Hack Street | None | +1233
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Blair
Maps are available for inspection at 218 South 16th Street, Blair, NE 68008.
City of Fort Calhoun
Maps are available for inspection at 110 South 14th Street, Fort Calhoun, NE 68023.
Unincorporated Areas of Washington County
Maps are available for inspection at 111 West 4th Street, Kennard, NE 68034.
Village of Herman
Maps are available for inspection at 504 U.S. Route 75, Herman, NE 68029.
Garvin County, Oklahoma, and Incorporated Areas
Rush Creek | Approximately 0.6 mile downstream of the railroad | None | +856 | Unincorporated Areas of Garvin County.
| Approximately 1.46 mile upstream of I-35 | None | +890
Washita Creek | Approximately 1,000 feet upstream of the confluence with Keel Sandy Creek | None | +852 | Unincorporated Areas of Garvin County.
| Approximately 0.84 mile upstream of the confluence with Rounds Creek | None | +981
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Unincorporated Areas of Garvin County
Maps are available for inspection at the Garvin County Courthouse, 201 West Grant Avenue, Pauls Valley, OK 73075.
Beaver County, Pennsylvania (All Jurisdictions)
Beaver River | Approximately 50 feet upstream of New Brighton Dam | None | +714 | Borough of Koppel, Township of Patterson.
| Approximately 790 feet upstream of 5th Avenue (State Route 351) | None | +759
Blockhouse Run | Approximately 410 feet downstream of Willow Tree Estate | None | +808 | Township of Pulaski.
| Approximately 144 feet upstream of Willow Tree Estate | None | +814
Brady Run | Approximately 0.23 mile upstream of Colonial Street | None | +720 | Township of Brighton.
| Approximately 0.56 mile upstream of Colonial Street | None | +732
Connoquenessing Creek | Approximately 670 feet downstream of Zelienople Road (State Route 288) | None | +852 | Township of North Sewickley.
| Approximately 0.67 mile downstream of Mercer Road (State Route 65) | None | +857
Dutchman Run | Approximately 0.89 mile upstream of 3rd Avenue | None | +806 | Township of New Sewickley.
| Approximately 0.91 mile upstream of 3rd Avenue | None | +809
Elkhorn Run | Just upstream of Elkrun Road | None | +707 | Borough of Monaca.
| Approximately 1,680 feet upstream of Elkrun Road | None | +727
Lacock Run | Approximately 25 feet downstream of East Washington Street | None | +797 | Borough of East Rochester.
Logtown Run | Approximately 1,020 feet upstream of Angela Drive | None | +914 | Township of Hopewell.
| Approximately 1,046 feet upstream of Angela Drive | None | +914
North Fork Little Beaver Creek | At the confluence with West Clarks Run | None | +911 | Township of Darlington.
| At the northern county boundary | None | +941
Ohio River | Approximately 60 feet upstream of the confluence with Little Beaver Creek | None | +690 | Borough of Georgetown, Borough of Monaca, Borough of Ohioville, Township of Greene, Township of Hopewell, Township of Raccoon.
| Approximately 80 feet upstream of the confluence with Big Sewickley Creek | None | +711
Raccoon Creek | Approximately 0.39 mile downstream of the Beaver Valley Expressway (State Route 60) | None | +757 | Township of Independence, Township of Raccoon.
| Approximately 1.72 mile upstream of the confluence with Service Creek | None | +789
Tributary to Walnut Bottom Run | Approximately 720 feet upstream of Patterson Avenue | None | +901 | Township of White.
| Approximately 790 feet upstream of Patterson Avenue | None | +903
Two Mile Run | Approximately 300 feet upstream of Tuscarawas Road | None | +771 | Borough of Beaver.
| Approximately 990 feet upstream of Tuscarawas Road | None | +777
Wallace Run | Approximately 135 feet downstream of the culvert for the Babcock and Wilcox Plant | None | +900 | Township of Chippewa.
| Approximately 0.53 mile upstream of Shenango Road | None | +1107
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Beaver
Maps are available for inspection at the Borough Hall, 469 3rd Street, Beaver, PA 15009.
Borough of East Rochester
Maps are available for inspection at the Borough Hall, 760 Spruce Street, East Rochester, PA 15074.
Borough of Georgetown
Maps are available for inspection at the Borough Hall, Main Street, Georgetown, PA 15043.
Borough of Koppel
Maps are available for inspection at the Borough Hall, 3437 3rd Street, Koppel, PA 16136.
Borough of Monaca
Maps are available for inspection at the Borough Hall, 928 Pennsylvania Avenue, Monaca, PA 15061.
Borough of Ohioville
Maps are available for inspection at the Ohioville Borough Hall, 6268 Tuscarawas Road, Industry, PA 15052.
Township of Brighton
Maps are available for inspection at the Brighton Township Hall, 1300 Brighton Road, Beaver, PA 15009.
Township of Chippewa
Maps are available for inspection at the Chippewa Township Hall, 2811 Darlington Road, Beaver Falls, PA 15010.
Township of Darlington
Maps are available for inspection at the Township Hall, 3590 Darlington Road, Darlington, PA 16115.
Township of Greene
Maps are available for inspection at the Greene Township Hall, 1128 State Route 168, Hookstown, PA 15050.
Township of Hopewell
Maps are available for inspection at the Hopewell Township Hall, 1700 Clark Boulevard, Aliquippa, PA 15001.
Township of Independence
Maps are available for inspection at the Independence Township Hall, 104 School Road, Aliquippa, PA 15001.
Township of New Sewickley
Maps are available for inspection at the New Sewickley Township Hall, 233 Miller Road, Rochester, PA 15074.
Township of North Sewickley
Maps are available for inspection at the North Sewickley Township Hall, 893 Mercer Road, Beaver Falls, PA 15010.
Township of Patterson
Maps are available for inspection at the Patterson Township Hall, 1600 19th Avenue, Beaver Falls, PA 15010.
Township of Pulaski
Maps are available for inspection at the Pulaski Township Municipal Building, 3401 Sunflower Road, New Brighton, PA 15009.
Township of Raccoon
Maps are available for inspection at the Raccoon Township Hall, 1234 State Route 18, Aliquippa, PA 15001.
Township of White
Maps are available for inspection at the White Township Hall, 2511 13th Avenue, Beaver Falls, PA 15010.
Butler County, Pennsylvania (All Jurisdictions)
Bonnie Brook | Approximately 0.30 mile upstream of the confluence with Connoquenessing Creek | None | +1007 | Township of Summit.
| Approximately 0.32 mile upstream of the confluence with Bonnie Brook Tributary 2 | None | +1027
Connoquenessing Creek | Approximately 0.33 mile downstream of West New Castle Street | +900 | +902 | Borough of Zelienople, Township of Butler, Township of Oakland, Township of Summit.
| Approximately 0.43 mile upstream of Hendricks Road | None | +1015
Little Connoquenessing Creek (backwater effects from Connoquenessing Creek) | At the confluence with Connoquenessing Creek | +911 | +913 | Township of Jackson.
| Approximately 1.08 mile upstream of the confluence with Connoquenessing Creek | +912 | +913
Sullivan Run | Approximately 0.34 mile upstream of North 6th Avenue | None | +1016 | Township of Butler.
| Approximately 0.37 mile upstream of North 6th Avenue | None | +1017
Thorn Creek No. 2 (backwater effects from Connoquenessing Creek) | At the confluence with Connoquenessing Creek | None | +1011 | Township of Oakland, Township of Summit.
| Approximately 0.31 mile upstream of the confluence with Connoquenessing Creek | None | +1012
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Zelienople
Maps are available for inspection at the Zelienople Borough Municipal Building, 111 West New Castle Street, Zelienople, PA 16063.
Township of Butler
Maps are available for inspection at the Township Hall, 290 South Duffy Street, Butler, PA 16001.
Township of Jackson
Maps are available for inspection at the Jackson Township Hall, 140 Magill Road, Zelienople, PA 16063.
Township of Oakland
Maps are available for inspection at the Oakland Township Hall, 565 Chicora Road, Butler, PA 16001.
Township of Summit
Maps are available for inspection at the Summit Township Hall, 502 Bonniebrook Road, Butler, PA 16002.
Fayette County, Pennsylvania (All Jurisdictions)
Bennington Spring Run | Approximately 10 feet downstream of the National Road (U.S. Route 40) | None | +1101 | Township of North Union.
| Just downstream of the National Road (U.S. Route 40) | None | +1101
Connell Run | Approximately 510 feet upstream of Locust Street | None | +1035 | Township of Connellsville.
| Approximately 580 feet upstream of Locust Street | None | +1036
Dunbar Creek | Approximately 438 feet upstream of Connellsville Street | None | +986 | Borough of Dunbar.
| Approximately 444 feet upstream of Connellsville Street | None | +986
Georges Creek | Approximately 250 feet downstream of Water Street (Rubles Mill Road) | None | +962 | Borough of Smithfield, Township of Georges.
| Just upstream of North Main Street | None | +1112
Indian Creek | Approximately 0.85 mile downstream of Indian Head Road | None | +1373 | Township of Springfield.
| Approximately 0.83 mile downstream of Indian Head Road | None | +1373
Little Redstone Creek | Approximately 0.24 mile upstream of Brownsville Road (State Route 208) | None | +780 | Township of Jefferson.
| Approximately 0.26 mile upstream of Brownsville Road (State Route 208) | None | +781
Mill Run to Litz Creek | Approximately 0.80 mile upstream of Redstone Church Road (Township Route 434) | None | +1019 | Township of Perry.
| Approximately 0.83 mile upstream of Redstone Church Road (Township Route 434) | None | +1019
Redstone Creek | Approximately 0.27 mile downstream of Taylor Flats Road (Township Route 422) | None | +773 | Township of Jefferson, Township of Redstone.
| Approximately 325 feet downstream of Pleasant View Smock Road (State Route 4016) | None | +871
Tributary A to Little Redstone Creek | Approximately 1,371 feet upstream of State Route 201 | None | +789 | Township of Jefferson.
| Approximately 1,379 feet upstream of State Route 201 | None | +789
Youghiogheny River | Approximately 0.57 mile upstream of the confluence with Trump Run | None | +892 | Borough of South Connellsville, Township of Stewart.
| Approximately 4.67 miles upstream of the confluence with Indian Creek | None | +1025
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Dunbar
Maps are available for inspection at the Borough Hall, 47 Connellsville Street, Dunbar, PA 15431.
Borough of Smithfield
Maps are available for inspection at the Borough Hall, 14 Water Street, Smithfield, PA 15478.
Borough of South Connellsville
Maps are available for inspection at the Borough Hall, 1503 South Pittsburgh Street, South Connellsville, PA 15425.
Township of Connellsville
Maps are available for inspection at the Township Municipal Building, 166 McCoy Hollow Road, Connellsville, PA 15425.
Township of Georges
Maps are available for inspection at the Georges Township Hall, 1151 Township Drive, Uniontown, PA 15401.
Township of Jefferson
Maps are available for inspection at the Jefferson Township Hall, 262 Stuckslager Road, Perryopolis, PA 15473.
Township of North Union
Maps are available for inspection at the North Union Township Hall, 7 South Evans Station Road, Lemont Furnace, PA 15456.
Township of Perry
Maps are available for inspection at the Perry Township Hall, 1 Township Drive, Star Junction, PA 15482.
Township of Redstone
Maps are available for inspection at the Redstone Township Hall, 225 Twin Hills Road, Grindstone, PA 15442.
Township of Springfield
Maps are available for inspection at the Springfield Township Municipal Building, 755 Mill Run Road, Mill Run, PA 15464.
Township of Stewart
Maps are available for inspection at the Stewart Township Hall, 373 Groover Road, Ohiopyle, PA 15464.
Tioga County, Pennsylvania (All Jurisdictions)
Camp Brook Creek | Approximately 1,900 feet downstream of East Main Street | None | +1124 | Township of Nelson.
| Approximately 460 feet downstream of East Main Street | None | +1127
Charleston Creek | Approximately 2,670 feet upstream of Jackson Street | None | +1325 | Township of Charleston.
| Approximately 2,720 feet upstream of Jackson Street | None | +1326
Cowanesque River Reach 2 | Approximately 3,600 feet downstream of State Route 49 | None | +1124 | Borough of Elkland, Township of Deerfield, Township of Nelson.
| Approximately 2.4 miles upstream of Holden Street | None | +1184
Crooked Creek | Approximately 0.2 mile upstream of Bear Creek Road (Legislative Route 58122) | None | +1024 | Borough of Tioga.
| Approximately 690 feet upstream of Mann Hill Road (Cowanesque Street) | None | +1034
Tioga River Reach 1 | Approximately 0.3 mile upstream of State Route 287 | None | +1024 | Borough of Tioga.
| Approximately 0.8 mile upstream of Park Street | None | +1034
Tioga River Reach 2 | Approximately 1.2 mile downstream of Spencer Road | None | +1139 | Borough of Mansfield, Township of Hamilton.
| Approximately 0.4 mile upstream of Gulick Street | None | +1401
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Borough of Elkland
Maps are available for inspection at the Borough Hall, 105 Parkhurst Street, Elkland, PA 16920.
Borough of Mansfield
Maps are available for inspection at the Borough Hall, 14 South Main Street, Mansfield, PA 16933.
Borough of Tioga
Maps are available for inspection at the Borough Office, 18 North Main Street, Tioga, PA 16946.
Township of Charleston
Maps are available for inspection at the Charleston Township Building, 156 Catlin Hollow Road, Wellsboro, PA 16901.
Township of Deerfield
Maps are available for inspection at the Deerfield Township Building, 5322 State Route 49, Knoxville, PA 16928.
Township of Hamilton
Maps are available for inspection at the Hamilton Township Municipal Building, 16 Tioga Street, Morris Run, PA 16939.
Township of Nelson
Maps are available for inspection at the Nelson Township Community Building, 111 Village Drive, Nelson, PA 16940.
Warren County, Pennsylvania (All Jurisdictions)
Allegheny River | Approximately 4.65 miles downstream of U.S. Route 62 | None | +1141 | Township of Deerfield.
| Approximately 4.21 miles downstream of U.S. Route 62 | None | +1143
Brokenstraw Creek | Approximately 0.16 mile upstream of Airport Road | None | +1236 | Township of Pittsfield.
| Approximately 0.27 mile upstream of Airport Road | None | +1237
Conewango Creek | Approximately 0.96 mile upstream of Hatch Run Road | None | +1212 | Township of Pine Grove.
| Approximately 1.24 mile upstream of Hatch Run Road | None | +1214
Tributary No. 1 to Stillwater Creek | Approximately 0.53 mile downstream of Jamestown Road | None | +1360 | Township of Sugar Grove.
| Approximately 0.49 mile downstream of Jamestown Road | None | +1361
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
Township of Deerfield
Maps are available for inspection at the Deerfield Township Building, 4638 Morrison Run Road, Tidioute, PA 16350.
Township of Pine Grove
Maps are available for inspection at the Pine Grove Township Municipal Building, 113 Liberty Street, Russell, PA 16345.
Township of Pittsfield
Maps are available for inspection at the Pittsfield Township Municipal Building, 488 Dalrymple Street, Pittsfield, PA 16340.
Township of Sugar Grove
Maps are available for inspection at the Township Building, 195 Creek Road, Sugar Grove, PA 16350.
Palo Pinto County, Texas, and Incorporated Areas
Brazos River | Approximately 7.89 miles downstream of the confluence with Palo Pinto Creek | None | +768 | Unincorporated Areas of Palo Pinto County.
| Approximately 5.43 miles downstream of the confluence with Palo Pinto Creek | None | +773
Crystal Creek | Just upstream of 16th Street | None | +915 | City of Mineral Wells.
| Just upstream of 2nd Street | None | +960
Pollard Creek | Approximately 387 feet upstream of Ferguson Road | None | +836 | Unincorporated Areas of Palo Pinto County.
| Approximately 118 feet downstream of Pollard Park Road | None | +921
Pollard Creek Tributary No. 1 | Just upstream of Southwest 22nd Street | None | +844 | Unincorporated Areas of Palo Pinto County.
| Just downstream of Southwest 10th Street | None | +861
Pollard Creek Tributary No. 5 | Approximately 850 feet upstream of Northeast 23rd Street | None | +1032 | Unincorporated Areas of Palo Pinto County.
| Just upstream of Northeast 23rd Street | None | +1049
Rock Creek | Just upstream of FM 1195 | None | +846 | Unincorporated Areas of Palo Pinto County.
| Approximately 0.82 mile upstream of FM 1195 | None | +857
Rock Creek Tributary No. 1 | Approximately 425 feet upstream of Northeast 23rd Street | None | +972 | Unincorporated Areas of Palo Pinto County.
| Approximately 600 feet upstream of Northeast 23rd Street | None | +972
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Roy E. Wright, Deputy Director, Risk Analysis Division, Federal Insurance and Mitigation Administration, Federal Emergency Management Agency, 500 C Street, SW., Washington, DC 20472.
ADDRESSES
City of Mineral Wells
Maps are available for inspection at City Hall, 115 Southwest 1st Street, Mineral Wells, TX 76068.
Unincorporated Areas of Palo Pinto County
Maps are available for inspection at the Palo Pinto County Courthouse, 520 Oak Street, Palo Pinto, TX 76484.

(Catalog of Federal Domestic Assistance No. 97.022, “Flood Insurance.”)

Dated: September 13, 2010.
Sandra K. Knight,
Deputy Federal Insurance and Mitigation Administrator, Mitigation, Department of Homeland Security, Federal Emergency Management Agency.

[FR Doc. 2010-24869 Filed 10-4-10; 8:45 am]

BILLING CODE 9110-12-P